NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold forty-three meetings, by videoconference, of the Humanities Panel, a Federal advisory committee, during February and March 2022. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: February 24, 2022

This video meeting—the first of two on this date—will discuss applications for the National Digital Newspaper Program, submitted to the Division of Preservation and Access.

2. Date: February 24, 2022

This video meeting—the second of two on this date—will discuss applications for the National Digital Newspaper Program, submitted to the Division of Preservation and Access.

3. Date: March 2, 2022

This video meeting will discuss applications on the topic of Biography, for the Public Scholars grant program, submitted to the Division of Research Programs.

4. Date: March 3, 2022

This video meeting will discuss applications on the topics of Literature and Language, for the Public Scholars grant program, submitted to the Division of Research Programs.

5. Date: March 9, 2022

This video meeting will discuss applications on the topics of Philosophy, Politics, and Law, for the Public Scholars grant program, submitted to the Division of Research Programs.

6. Date: March 9, 2022

This video meeting will discuss applications on the topic of U.S. History, for the Public Scholars grant program, submitted to the Division of Research Programs.

7. Date: March 10, 2022

This video meeting will discuss applications on the topics of Science, Medicine, and the Environment, for the Public Scholars grant program, submitted to the Division of Research Programs.

8. Date: March 10, 2022

This video meeting will discuss applications on the topic of Social Sciences, for the Public Scholars grant program, submitted to the Division of Research Programs.

9. Date: March 11, 2022

This video meeting will discuss applications on the topic of American Studies, for the Public Scholars grant program, submitted to the Division of Research Programs.

10. Date: March 14, 2022

This video meeting will discuss applications on the topics of Film, Media, and Communications, for the Public Scholars grant program, submitted to the Division of Research Programs.

11. Date: March 14, 2022

This video meeting will discuss applications on the topic of U.S. History, for the Public Scholars grant program, submitted to the Division of Research Programs.

12. Date: March 15, 2022

This video meeting will discuss applications on the topics of Historic Houses and Sites, for the Sustaining Cultural Heritage Collections grant program, submitted to the Division of Preservation and Access.

13. Date: March 15, 2022

This video meeting will discuss applications on the topic of Biography, for the Public Scholars grant program, submitted to the Division of Research Programs.

14. Date: March 15, 2022

This video meeting will discuss applications on the topic of American Studies, for the Public Scholars grant program, submitted to the Division of Research Programs.

15. Date: March 16, 2022

This video meeting will discuss applications on the topic of Religion, for the Public Scholars grant program, submitted to the Division of Research Programs.

16. Date: March 16, 2022

This video meeting will discuss applications on the topic of Art Museums, for the Sustaining Cultural Heritage Collections grant program, submitted to the Division of Preservation and Access.

17. Date: March 17, 2022

This video meeting will discuss applications on the topic of History Documentaries, for the Media Projects Production grant program, submitted to the Division of Public Programs.

18. Date: March 17, 2022

This video meeting will discuss applications on the topics of American and Latin American Studies, for the Public Scholars grant program, submitted to the Division of Research Programs.

19. Date: March 17, 2022

This video meeting will discuss applications on the topics of Literature, Communication, and the Arts, for the Collaborative Research grant program, submitted to the Division of Research Programs.

20. Date: March 18, 2022

This video meeting will discuss applications on the topics of History and Studies of the Americas, for the Collaborative Research grant program, submitted to the Division of Research Programs.

21. Date: March 18, 2022

This video meeting will discuss applications on the topic of History, for the Public Scholars grant program, submitted to the Division of Research Programs.

22. Date: March 18, 2022

This video meeting will discuss applications on the topic of Cultural History Documentaries, for the Media Projects Production grant program, submitted to the Division of Public Programs.

23. Date: March 21, 2022

This video meeting will discuss applications on the topic of Arts, for the Public Scholars grant program, submitted to the Division of Research Programs.

24. Date: March 21, 2022

This video meeting will discuss applications on the topics of World Literature and Studies, for the Scholarly Editions and Translations grant program, submitted to the Division of Research Programs.

25. Date: March 22, 2022

This video meeting will discuss applications on the topic of History Documentaries, for the Media Projects Production grant program, submitted to the Division of Public Programs.

26. Date: March 22, 2022

This video meeting will discuss applications on the topics of Libraries, Archives, and Historical Societies, for the Sustaining Cultural Heritage Collections grant program, submitted to the Division of Preservation and Access.

27. Date: March 23, 2022

This video meeting will discuss applications on the topics of Archaeological and Native American Studies, for the Sustaining Cultural Heritage Collections grant program, submitted to the Division of Preservation and Access.

28. Date: March 23, 2022

This video meeting will discuss applications on the topics of Literature and the Arts, for the Collaborative Research grant program, submitted to the Division of Research Programs.

29. Date: March 23, 2022

This video meeting will discuss applications on the topic of U.S. History, for the Public Scholars grant program, submitted to the Division of Research Programs.

30. Date: March 24, 2022

This video meeting will discuss applications on the topics of Communication and Media Studies, for the Collaborative Research grant program, submitted to the Division of Research Programs.

31. Date: March 24, 2022

This video meeting will discuss applications on the topic of American History, for the Scholarly Editions and Translations grant program, submitted to the Division of Research Programs.

32. Date: March 24, 2022

This video meeting will discuss applications on the topic of Humanities Documentaries, for the Media Projects Production grant program, submitted to the Division of Public Programs.

33. Date: March 25, 2022

This video meeting will discuss applications on the topic of American Studies, for the Public Humanities Projects: Exhibitions (Implementation) grant program, submitted to the Division of Public Programs.

34. Date: March 25, 2022

This video meeting will discuss applications on the topics of History, Philosophy, and Social Sciences, for the Collaborative Research grant program, submitted to the Division of Research Programs.

35. Date: March 28, 2022

This video meeting will discuss applications on the topics of Philosophy, Religion, and Social Sciences, for the Collaborative Research grant program, submitted to the Division of Research Programs.

36. Date: March 29, 2022

This video meeting will discuss applications on the topic of American History, for the Scholarly Editions and Translations grant program, submitted to the Division of Research Programs.

37. Date: March 29, 2022

This video meeting will discuss applications on the topics of Culture Radio and Podcasts, for the Media Projects Production grant program, submitted to the Division of Public Programs.

38. Date: March 30, 2022

This video meeting will discuss applications on the topic of Historical Sites, for the Public Humanities Projects: Exhibitions (Implementation) grant program, submitted to the Division of Public Programs.

39. Date: March 30, 2022

This video meeting will discuss applications on the topics of European Studies and Music, for the Scholarly Editions and Translations grant program, submitted to the Division of Research Programs.

40. Date: March 30, 2022

This video meeting will discuss applications on the topics of Collections and Access, for the Digital Humanities Advancement Grants program, submitted to the Office of Digital Humanities.

41. Date: March 31, 2022

This video meeting will discuss applications on the topics of Pedagogy and Virtual Reality, for the Digital Humanities Advancement Grants program, submitted to the Office of Digital Humanities.

42. Date: March 31, 2022

This video meeting will discuss applications on the topics of History and Studies of Africa, Asia, and Europe, for the Collaborative Research grant program, submitted to the Division of Research Programs.

43. Date: March 31, 2022

This video meeting will discuss applications on the topics of History Radio and Podcasts, for the Media Projects Production grant program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: February 14, 2022.
Samuel Roth,
Attorney-Advisor, National Endowment for the Humanities.

[FR Doc. 2022-03464 Filed 2-16-22; 8:45 am]

BILLING CODE 7536-01-P